DEPARTMENT OF AGRICULTURE

Food and Nutrition Service

Agency Information Collection Activities: Proposed Collection; Comment Request—Evaluation of Child Support Cooperation Requirements in the Supplemental Nutrition Assistance Program

AGENCY: Food and Nutrition Service (FNS), USDA.

ACTION: Notice.

SUMMARY: In accordance with the Paperwork Reduction Act of 1995, this notice invites the general public and other public agencies to comment on this proposed information collection. This NEW information collection will provide USDA with information on Child Support Cooperation Requirements in the Supplemental Nutrition Assistance Program (SNAP).

DATES: Written comments must be received on or before October 13, 2020.

ADDRESSES: Written comments may be sent to: Michael Burke, Office of Policy Support, FNS, USDA, 1320 Braddock Place, 5th Floor, Alexandria, VA 22314. Comments may also be submitted via email to michael.burke@usda.gov. Comments will also be accepted through the Federal eRulemaking Portal. Go to http://www.regulations.gov, and follow the online instructions for submitting comments electronically.

All written comments will be open for public inspection at the office of the Food and Nutrition Service during regular business hours (8:30 a.m. to 5:00 p.m. Monday through Friday) at Office of Policy Support, FNS, USDA, 1320 Braddock Place, 5th Floor, Alexandria, VA 22314.

All responses to this notice will be summarized and included in the request for Office of Management and Budget approval. All comments will be a matter of public record.

FOR FURTHER INFORMATION CONTACT: Requests for additional information or copies of this information collection should be directed to Michael Burke by mail at Office of Policy Support, FNS, USDA, 1320 Braddock Place, 5th Floor Alexandria, VA 22314; by email at michael.burke@usda.gov; or by phone at (703) 305-4369.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Evaluation of Child Support Cooperation Requirements in SNAP

Form Number: Not Applicable

OMB Number: 0584-NEW

Expiration Date: Not Yet Determined

Type of Request: New Information Collection

Abstract: In the Agriculture Improvement Act of 2018 (Pub. L., 115-334, Section 4015), Congress directed FNS to assess the implementation, impacts, costs, and benefits of child support cooperation requirements in SNAP. Child support cooperation requirements generally mandate a child's primary caretaker (typically a custodial parent) applying for that program's benefits to assist the child support agency by providing information that helps locate noncustodial parents and establish paternity and support orders. States may also require SNAP noncustodial parents to cooperate with child support by meeting their financial and medical support obligations. The child support cooperation requirement is mandatory in the Temporary Assistance for Needy Families (TANF) program and Medicaid but is a State option and not a mandate for a SNAP participant to obtain, retain or maintain SNAP benefits. Eight States currently implement cooperation requirements in SNAP, and others are considering adopting this requirement.

The study will include 12 States, including 7 States that are exercising the option to implement a child support requirement in SNAP, 2 States that formerly implemented a child support cooperation requirement but no longer do so, and 3 States that are considering implementing this requirement. Study objectives include (1) assessing the implementation of the child support cooperation requirement in States currently implementing it; (2) assessing the feasibility of implementing a child support cooperation requirement in study States that formerly chose to implement the requirement or are considering implementing it; (3) assessing the impact of a child support cooperation requirement in SNAP on custodial and noncustodial parents in study States that have or formerly had the requirement; (4) assessing how State agencies align the procedures for implementing a child support cooperation requirement in SNAP to those in other Federal programs that have a cooperation requirement; (5) determining the costs and benefits to State SNAP agencies, child support agencies, and households of requiring State agencies to implement a child support cooperation requirement; and (6) assessing the impact of a child support cooperation requirement on SNAP eligibility, benefit levels, food security, income, and economic stability.

To achieve the research objectives, the study will conduct site visits and collect administrative data. The site visits will include interviews with State staff designated by the State Director from the SNAP and child support agencies. In 7 States that currently have child support requirements in SNAP, site visits will include visits to two local SNAP and two local child support agency offices as well as interviews with staff. The study will use this information to document the processes used to implement the child support cooperation requirement. The study will conduct in-person interviews with SNAP participants in 10 States that either have child support requirements in SNAP or are considering implementing these requirements to collect information on how clients understand the requirement and how it affects them.

To assess the impact of the requirement on SNAP participants and applicants, the study will also collect and analyze SNAP and child support administrative data in all 12 study states. In the 9 study states that currently have or formerly had child support requirements in SNAP, the SNAP agency respondent who provides the SNAP data for the study will also provide TANF and/Medicaid administrative data if those program data are housed in the same agency that administers SNAP. If the TANF and/or Medicaid programs are housed in agencies different from the SNAP agencies, the TANF and/or Medicaid administrative data will not be collected. Finally, the study will collect and analyze cost data associated with implementing the requirement in selected States to assess the costs of implementation and to compare these against the benefits of the requirement.

Affected Public: Members of the public affected by the data collection include Individuals/households; State, Local and Tribal governments; and business-for-profit.

Estimated Number of Respondents: The total estimated number of respondents—which includes everyone contacted for data collection regardless of whether they participate—is 1,114. This includes 750 individuals/households, 352 State and local government staff, and 12 advocates. FNS will contact 750 individuals/households, out of which 300 parents/caretakers will complete in-person interviews and 450 parents/caretakers will be considered nonrespondents. FNS will contact 100 State and local agency directors/managers; 210 State or local agency direct service staff; and 12 representatives or staff from State legislature or judicial systems for in-person interviews. Twenty-four of the directors/managers will provide administrative data and 6 will provide cost data. FNS will contact 12 advocates for in-person interviews.

Estimated Frequency of Responses per Respondent: 1.418312387791741.

FNS used the average frequency of all respondent/non-respondent group to determine the annual frequency estimates. Average 1.40 frequency of responses for individuals/households (with an expected 1,050 responses from 750 respondents), 1.4375 responses for State and local government representatives (with an expected 506 responses from 352 respondents), and 2.00 responses for (business for profit) private sector representatives (with an expected 24 responses from 12 respondents).

Estimated Total Annual Responses: 1,579.99 rounded up to 1,580.

Estimated Time per Response: 1.277012658.

FNS used the time per all respondent/non-respondent group to determine the annual frequency estimates. The estimated time of response varies from 0.0835 or (5 minutes) to 35.00 burden hours depending on the respondent group, with an average estimated time of 1.28 hours (1 hour and 17 minutes).

Estimated Annual Burden Hours: The estimated annual burden hours is 2,017.679.

Affected public | Data collection activity | Respondents type | Sample size | Respondents: Estimated number of respondents | Respondents: Frequency of response | Respondents: Total annual responses | Respondents: Average burden hours per response | Respondents: Total annual burden estimate (hours) | Non-respondents: Estimated number of non- respondents | Non-respondents: Frequency of response | Non-respondents: Total annual responses | Non-respondents: Average burden hours per response | Non-respondents: Total annual burden estimate (hours) | Grand total burden estimate
Individuals/households | Invitation call or letter | Parent/caretaker | 750 | 300 | 1 | 300 | 0.08 | 24.00 | 450 | 1 | 450 | 0.08 | 36.00 | 60.00
| In-person interview | Parent/caretaker | 750 | 300 | 1 | 300 | 1.67 | 501.00 | 450 | 0 | 0 | 0.00 | 0.00 | 501.00
Subtotal individuals/households | 750 | 300 |  | 600 |  | 525.00 | 450 |  | 450 |  | 36.00 | 561.00
State and local government | Invitational email and fact sheet review | State or local agency director/manager (SNAP: 12 State SNAP agency directors, 12 SNAP policy directors, 12 SNAP data managers, 2 SNAP local office directors, Child Support: 12 State Child Support agency directors, 12 Child Support policy directors, 12 Child Support data managers, and 2 Child Support local office agency directors) | 100 | 100 | 1 | 100 | 0.08 | 8.00 | 0 | 1 | 0 | 0.08 | 0.00 | 8.00
| In-person interview | State or local agency director/manager (Same breakdown as depicted in cell above) | 100 | 100 | 1 | 100 | 1.00 | 100.00 | 0 | 0 | 0 | 0.00 | 0.00 | 100.00
| In-person interview | State or local agency direct service staff (SNAP: 105 SNAP direct service staff; Child Support: 105 Child Support direct service staff) | 210 | 210 | 1 | 210 | 1.77 | 371.70 | 0 | 1 | 0 | 0.08 | 0.00 | 371.70
| Invitational email and fact sheet review | Representative or staff from State legislature or judicial system | 12 | 12 | 1 | 12 | 0.08 | 0.96 | 0 | 1 | 0 | 0.08 | 0.00 | 0.96
| In-person interview | Representative or staff from State legislature or judicial system | 12 | 12 | 1 | 12 | 1.00 | 12.00 | 0 | 0 | 0 | 0.00 | 0.00 | 12.00
| Written data collection request; any needed clarifying discussions | State or local agency director/manager | 24 | 24 | 1 | 24 | 2.00 | 48.00 | 0 | 1 | 0 | 0.08 | 0.00 | 48.00
| Provide administrative data | State or local agency director/manager | 24 | 24 | 1 | 24 | 35.00 | 840.00 | 0 | 0 | 0 | 0.00 | 0.00 | 840.00
| Written data collection request; any needed clarifying discussions | State or local agency director/manager | 6 | 6 | 2 | 12 | 1.00 | 12.00 | 0 | 1 | 0 | 0.08 | 0.00 | 12.00
| Provide cost data | State or local agency director/manager | 6 | 6 | 2 | 12 | 4.00 | 48.00 | 0 | 0 | 0 | 0.00 | 0.00 | 48.00
Subtotal state and local government | 352 | 352 |  | 506 |  | 1,440.66 | 0 |  | 0 |  | 0.00 | 1,440.66
(Business-for-profit) Private sector | Invitational email and fact sheet review | Advocate or other stakeholder | 12 | 12 | 1 | 12 | 0.08 | 0.96 | 0 | 1 | 0 | 0.08 | 0.00 | 0.96
| In-person interview | Advocate or other stakeholder | 12 | 12 | 1 | 12 | 1.00 | 12.00 | 0 | 0 | 0 | 0.00 | 0.00 | 12.00
Subtotal business-for-profit private sector | 12 | 12 |  | 24 |  | 12.96 | 0 |  | 0 |  | 0.00 | 12.96
Grand total | 1,114 | 664 |  | 1,130 |  | 1,978.62 | 450 |  | 450 |  | 0.00 | 2,017.68

Pamilyn Miller,
Administrator, Food and Nutrition Service.

[FR Doc. 2020-17674 Filed 8-13-20; 8:45 am]

BILLING CODE 3410-30-P